DEPARTMENT OF COMMERCE

Bureau of the Census

National Sunshine Week Public Event

AGENCY: Bureau of the Census, Department of Commerce.

ACTION: Notice of Public Event.

SUMMARY: The Bureau of the Census (U.S. Census Bureau) is announcing the following event, “Era of Transparency: Freedom of Information Act (FOIA), Privacy Act, and Open Government,” in recognition of National Sunshine Week. As part of its efforts to promote the goals of open government and FOIA, the Census Bureau will hold a public event on issues relevant to government transparency. Topics will include proactive disclosures, the Privacy Act, and data accessibility.

DATES: Wednesday, March 18, 2015 from 9:00 a.m. to 12:00 Noon.

ADDRESSES: The event will be held at the U.S. Census Bureau in IL001 Library, 4600 Silver Hill Road, Suitland, MD 20746.

FOR FURTHER INFORMATION CONTACT: Jennifer Goode or Karen Bronson, Policy Coordination Office, (301) 763-2127, email: census.efoia@census.gov, or by postal mail addressed to: U.S. Census Bureau, Policy Coordination Office, Freedom of Information Act and Open Government Branch, Room 8H027, 4600 Silver Hill Road, Washington, DC 20233.

For TTY callers, please call the Federal Relay Service (FRS) at 1-800-877-8339 and give them the above listed number you would like to call. This service is free and confidential.

SUPPLEMENTARY INFORMATION: The event will begin promptly at 9:00 a.m. and end at 12:00 Noon. The agenda will be available a week before the event on the Census Bureau Web site, http://www.census.gov/. Registration is free, but advanced registration is required. Send an email to census.efoia@census.gov to register. Please include “Sunshine Week Event registration” in the subject line.

Speakers tentatively scheduled for the event include the following: Melanie Pustay, Director of the Office of Information Policy, U.S. Department of Justice; Catrina Purvis, Chief Privacy Officer and Director of Open Government, U.S. Department of Commerce; Anne Weismann, Chief Counsel and Interim Executive Director of the Citizens for Responsibility and Ethics in Washington; Avi Bender, Chief Technology Officer, U.S. Census Bureau; and Jeanne Shiffer, Associate Director of Communications, U.S. Census Bureau.

The event will be physically accessible to people with disabilities. Individuals requiring accommodation such as sign language interpretation or other auxiliary aids, should call Iris Boon at (301) 763-2127 to request accommodations at least five business days in advance.

All registrants will be placed on a visitor's list. All visitors for the event must provide government issued photo identification in order to enter the building and receive a visitor's badge. For logistical questions, call Daniel Lurker at (301) 763-2127.

Media interested in attending should call the Census Bureau's Public Information Office at (301) 763-3030 or email pio@census.gov.

Dated: January 23, 2015.
John H. Thompson,
Director, Bureau of the Census.

[FR Doc. 2015-01926 Filed 1-30-15; 8:45 am]

BILLING CODE 3510-07-P